DEPARTMENT OF AGRICULTURE

Agricultural Marketing Service

7 CFR Part 981

[Docket No. FV01-981-610 REVIEW]

California Almond Marketing Order; Section 610 Review

AGENCY: Agricultural Marketing Service, USDA.

ACTION: Confirmation of regulations.

SUMMARY: This action summarizes the results of an Agricultural Marketing Service (AMS) review of Marketing Order 981, which regulates the handling of almonds grown in California, under the criteria contained in section 610 of the Regulatory Flexibility Act (RFA). Based upon its review, AMS has determined that the marketing order should be continued without change.

ADDRESSES: Interested persons may obtain a copy of the review. Requests for copies should be sent to the Docket Clerk, Fruit and Vegetable Programs, AMS, USDA, 1400 Independence Avenue, SW., STOP 0237, Washington, DC 20250-0237; Fax: (202) 720-8938; or E-mail: moab.docketclerk@usda.gov.

FOR FURTHER INFORMATION CONTACT: Martin Engeler, California Marketing Field Office, Marketing Order Administration Branch, Fruit and Vegetable Programs, AMS, USDA, 2202 Monterey Street, Suite 102B, Fresno, California 93721; telephone (209) 487-5901; Fax: (202) 487-5906; E-mail: Martin.Engeler@usda.gov; or George Kelhart, Technical Advisor, Marketing Order Administration Branch, Fruit and Vegetable Programs, AMS, USDA, 1400 Independence Avenue, SW., STOP 0237, Washington, DC 20250-0237, telephone: (202) 720-2491; Fax: (202) 720-8938; E-mail: George.Kelhart@usda.gov.

SUPPLEMENTARY INFORMATION: Marketing Order No. 981, as amended (7 CFR Part 981), regulates the handling of almonds grown in California. The marketing order is authorized under the Agricultural Marketing Agreement Act of 1937 (Act), as amended (7 U.S.C. 601-674).

Marketing Order 981, originally established in 1950, authorizes research and promotion activities, quality control, volume control, mandatory inspection, and reporting requirements. The marketing order establishes the Almond Board of California (Board), consisting of five producers and five handlers and their respective alternates. Currently, four of the members represent cooperative marketing associations and six represent independents (those not affiliated with a cooperative). Eight of the members and alternates serve staggered, three-year terms of office. Two members (one grower and one handler) serve one-year terms. These two positions are represented by the group (cooperative or independent) that accounted for over fifty percent of the production in the preceding year. Independent producer members are nominated by independent producers, and independent handlers members are nominated by independent handlers through a mail balloting process. Cooperative representatives are nominated by the cooperative marketing organizations. The California almond industry currently consists of approximately 7,000 producers and 110 handlers.

AMS published in the Federal Register (63 FR 8014; February 18, 1999), its plan to review certain regulations, including Marketing Order No. 981, under criteria contained in section 610 of the Regulatory Flexibility Act (RFA; 5 U.S.C. 601-612). An updated plan was published in the Federal Register on January 4, 2002 (67 FR 525). AMS published a notice of review and request for written comments on the California almond marketing order in the June 13, 2001, issue of the Federal Register (66 FR 31850). During the comment period, two written comments in support of the marketing order were received. The comments were received from the Board and an almond handler.

The AMS review was undertaken to determine whether the California almond marketing order should be continued without change, amended, or rescinded to minimize the impacts on small entities. In conducting this review, AMS considered the following factors: (1) The continued need for the marketing order; (2) the nature of complaints or comments received from the public concerning the marketing order; (3) the complexity of the marketing order; (4) the extent to which the marketing order overlaps, duplicates, or conflicts with other Federal rules, and, to the extent feasible, with State and local governmental rules; and (5) the length of time since the marketing order has been evaluated or the degree to which technology, economic conditions, or other factors have changed in the area affected by the marketing order.

In its written comment, the Board addresses the various activities and programs administered under the order, describes benefits of the activities, and expresses support for the programs. It also summarizes the evolution of the order from its inception in 1950 to the present day.

The handler comment also expresses support for the order. It notes that the order provides a valuable product to consumers, increases the consumption of almonds, and facilitates the orderly marketing of almonds in the marketplace. The comment also notes that the order accomplishes these things without duplicating the efforts of individual handlers or engaging in activities that affect the competitive advantage of handlers in the marketplace.

The marketing order was established to help the California almond industry work with AMS to solve marketing problems that were characterized by abundant supplies and relatively low producer returns. These problems continue today and the industry needs the marketing tools available under the marketing order in overcoming these problems. The industry has undergone dramatic growth in production since the marketing order's inception. Production has increased almost 1,000 percent since the order's inception and nearly 500 percent since 1972. The marketing order has been used effectively in expanding markets and in finding new uses for almonds to absorb the increasing production.

Based on its review, AMS has determined that the marketing order should be continued without change.

Neither AMS nor the Board has received any complaints regarding Marketing Order 981 or the rules and regulations issued thereunder. In 1998, USDA conducted a continuance referendum and the marketing order was supported by nearly 90 percent of the producers who voted in the referendum. The marketing order is not unduly complex, and AMS has not identified any relevant Federal rules, or State and local regulations that duplicate, overlap, or conflict with the California almond marketing order.

AMS provides Federal oversight of the order and, along with the Board, monitors marketing operations on a continuing basis. AMS works with the Board to ensure that the regulations issued and production and market activities undertaken address current market and industry conditions, and that the regulations and administrative procedures implemented are appropriate for current practices within the industry. The producers and handlers of California almonds support the activities that help ensure the marketing of a high quality product in expanding markets, and believe that this order has been effectively used for these purposes.

AMS will continue to work with the California almond industry in maintaining an effective marketing order program.

Dated: June 14, 2002.
Kenneth C. Clayton,
Associate Administrator, Agricultural Marketing Service.

[FR Doc. 02-15509 Filed 6-19-02; 8:45 am]

BILLING CODE 3410-02-P